DEPARTMENT OF ENERGY

Federal Energy Regulatory Commission

Combined Notice of Filings #1

Take notice that the Commission received the following electric rate filings:

Docket Numbers:

ER20-2415-002; ER10-2421-005; ER10-2457-003; ER10-2590-008; ER10-2593-008; ER10-2616-019; ER11-4400-016; ER12-1769-008; ER12-2250-006; ER12-2251-006; ER12-2252-007; ER12-2253-006; ER12-75-009; ER14-1569-012; ER14-2245-006; ER14-883-013; ER15-1596-012; ER15-1599-012; ER19-102-005; ER19-158-007; ER19-2803-004; ER19-2806-004; ER19-2807-004; ER19-2809-004; ER19-2810-004; ER19-2811-004.

Applicants: Moss Landing Energy Storage 2, LLC, Moss Landing Power Company LLC, Oakland Power Company LLC, Ambit Northeast, LLC, Cincinnati Bell Energy LLC, Connecticut Gas & Electric, Inc., Dynegy Commercial Asset Management, LLC, Dynegy Energy Services, LLC, Dynegy Energy Services (East), LLC, Dynegy Marketing and Trade, LLC, Dynegy Power Marketing, LLC, Energy Rewards, LLC, Energy Services Providers, Inc., Everyday Energy, LLC, Everyday Energy NJ, LLC, Illinois Power Marketing Company, Luminant Energy Company LLC, Massachusetts Gas & Electric, Inc., Public Power, LLC, Public Power & Utility of Maryland, LLC, Public Power & Utility of NY, Inc, Public Power (PA), LLC, TriEagle Energy, LP, Viridian Energy, LLC, Viridian Energy PA, LLC, Viridian Energy NY, LLC.

Description: Notice of Change in Status of Vistra Southwest MBR Sellers.

Filed Date: 3/24/21.

Accession Number: 20210324-5238.

Comments Due: 5 p.m. ET 4/14/21.

Docket Numbers: ER21-716-002.

Applicants: PJM Interconnection, L.L.C.

Description: Tariff Amendment: Supplement and Correction: Original ISA, SA No. 5692; Queue No. AF1-198 to be effective 6/30/2020.

Filed Date: 3/25/21.

Accession Number: 20210325-5087.

Comments Due: 5 p.m. ET 4/15/21

Docket Numbers: ER21-955-001.

Applicants: California Independent System Operator Corporation.

Description: Tariff Amendment: Amendment to Pending Filing in ER21-955 to be effective 4/1/2021.

Filed Date: 3/25/21.

Accession Number: 20210325-5145.

Comments Due: 5 p.m. ET 4/5/21.

Docket Numbers: ER21-1510-000.

Applicants: Midcontinent Independent System Operator, Inc., Big Rivers Electric Corporation.

Description: § 205(d) Rate Filing: 2021-03-24_BREC Attachment O and GG Filing to be effective 6/1/2021.

Filed Date: 3/24/21.

Accession Number: 20210324-5133.

Comments Due: 5 p.m. ET 4/14/21.

Docket Numbers: ER21-1511-000.

Applicants: Ohio Power Company, AEP Ohio Transmission Company, Inc., American Electric Power Service Corporation, PJM Interconnection, L.L.C.

Description: § 205(d) Rate Filing: AEP submits the Loudonville FA re: ILDSA SA No. 1336 to be effective 5/25/2021.

Filed Date: 3/25/21.

Accession Number: 20210325-5051.

Comments Due: 5 p.m. ET 4/15/21.

Docket Numbers: ER21-1512-000.

Applicants: PJM Interconnection, L.L.C.

Description: § 205(d) Rate Filing: Amendment to ISA/ICSA SA No. 5212 & 5213; Queue Nos. AB2-077/AB2-078/AB2-079 to be effective 9/10/2018.

Filed Date: 3/25/21.

Accession Number: 20210325-5056.

Comments Due: 5 p.m. ET 4/15/21.

Docket Numbers: ER21-1513-000.

Applicants: ISO New England Inc.

Description: § 205(d) Rate Filing: ISO New England Inc.; Ministerial Filing to Conform Tariff Section I.2 to be effective 1/1/2021.

Filed Date: 3/25/21.

Accession Number: 20210325-5057.

Comments Due: 5 p.m. ET 4/15/21.

Docket Numbers: ER21-1514-000.

Applicants: Mid-Atlantic Interstate Transmission, LLC, PJM Interconnection, L.L.C.

Description: § 205(d) Rate Filing: MAIT submits Nine ECSAs, Nos. 5924-5927, 5929-5930, 5935-5937 to be effective 5/25/2021.

Filed Date: 3/25/21.

Accession Number: 20210325-5068.

Comments Due: 5 p.m. ET 4/15/21.

Docket Numbers: ER21-1515-000.

Applicants: PJM Interconnection, L.L.C.

Description: § 205(d) Rate Filing: Amendment to ISA No. 4493, Queue No. AB1-096 to be effective 6/17/2016.

Filed Date: 3/25/21.

Accession Number: 20210325-5120.

Comments Due: 5 p.m. ET 4/15/21.

Docket Numbers: ER21-1516-000.

Applicants: Midcontinent Independent System Operator, Inc., Hoosier Energy Rural Electric Cooperative.

Description: § 205(d) Rate Filing: 2021-03-25_Hoosier Attachment O Filing to be effective 6/1/2021.

Filed Date: 3/25/21.

Accession Number: 20210325-5121.

Comments Due: 5 p.m. ET 4/15/21.

Docket Numbers: ER21-1517-000.

Applicants: PJM Interconnection, L.L.C.

Description: § 205(d) Rate Filing: Amendment to WMPA No. 5693, Queue No. AF1-155 to be effective 6/16/2020.

Filed Date: 3/25/21.

Accession Number: 20210325-5155.

Comments Due: 5 p.m. ET 4/15/21.

Docket Numbers: ER21-1518-000.

Applicants: FPL Energy Mower County, LLC.

Description: Tariff Cancellation: Notice of Cancellation to be effective 3/26/2021.

Filed Date: 3/25/21.

Accession Number: 20210325-5158.

Comments Due: 5 p.m. ET 4/15/21.

Take notice that the Commission received the following qualifying facility filings:

Docket Numbers: QF21-267-000.

Applicants: Kimberly-Clark Corporation.

Description: Form 556 of Kimberly-Clark Corporation [New Milford Mill].

Filed Date: 12/16/20.

Accession Number: 20201216-5227.

Comments Due: None-Applicable.

Docket Numbers: QF21-515-000.

Applicants: Sonata Green Owner, LLC.

Description: Form 556 of Sonata Green Owner LLC.

Filed Date: 2/18/21.

Accession Number: 20210218-5074.

Comments Due: None-Applicable.

Docket Numbers: QF21-580-000.

Applicants: Susquehanna 1, LLC.

Description: Form 556 of Susquehanna 1, LLC.

Filed Date: 3/17/21.

Accession Number: 20210317-5193.

Comments Due: None-Applicable.

Docket Numbers: QF21-610-000.

Applicants: Kimberly-Clark Corporation.

Description: Form 556 of Kimberly-Clark Corporation [Owensboro Facility].

Filed Date: 3/23/21.

Accession Number: 20210323-5274.

Comments Due: None-Applicable.

Take notice that the Commission received the following PURPA 210(m)(3) filings:

Docket Numbers: QM21-12-000.

Applicants: Virginia Electric and Power Company.

Description: Application of Virginia Electric and Power Company to Terminate Mandatory Purchase Obligation under the Public Utility Regulatory Policies Act of 1978.

Filed Date: 3/18/21.

Accession Number: 20210318-5016.

Comments Due: 5 p.m. ET 4/15/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2021.
Nathaniel J. Davis, Sr.,
Deputy Secretary.

[FR Doc. 2021-06619 Filed 3-30-21; 8:45 am]

BILLING CODE 6717-01-P